DEPARTMENT OF HOMELAND SECURITY

Bureau of Citizenship and Immigration Services

[CIS No. 2304-03]

Direct Mail Requests for Special Immigrant Classification and/or Adjustment of Status by Officers or Employees of International Organizations and Their Family Members

Correction

In notice document 04-1513 beginning on page 3380 in the issue of Friday, January 23, 2004, make the following correction:

On page 3380, in the first column, under the heading “dates”, “February 2, 2004” should read “February 23, 2004”.

[FR Doc. C4-1513 Filed 1-27-04; 8:45 am]

BILLING CODE 1505-01-D